DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed new collection of the “Forms Design and Pilot Testing for the BLS Green Practices and Processes Project.” A copy of the proposed information collection request (ICR) can be obtained by contacting the individual listed below in the ADDRESSES section of this notice.

DATES: Written comments must be submitted to the office listed in the ADDRESSES section of this notice on or before August 30, 2010.

ADDRESSES: Send comments to Carol Rowan, BLS Clearance Officer, Division of Management Systems, Bureau of Labor Statistics, Room 4080, 2 Massachusetts Avenue, NE., Washington, DC 20212. Written comments also may be transmitted by fax to 202-691-5111 (this is not a toll free number).

FOR FURTHER INFORMATION CONTACT: Carol Rowan, BLS Clearance Officer, at 202-691-7628 (this is not a toll free number).

SUPPLEMENTARY INFORMATION:

I. Background

The Occupational Employment Statistics Program (OES) program has been funded to collect and produce objective and reliable information on occupational employment and wages for green jobs at the establishment level. This information collection will be conducted through special topic surveys on the green economy. This work is necessary to meet the publication objective outlined in the President's FY2010 budget proposal.

The Bureau of Labor Statistics (BLS) presented its approach to measuring green jobs and the proposed definition of green jobs in a March 16th, 2010, Federal Register Notice (75 FR 12571). The measurement approach includes two types of surveys: One on jobs related to producing green goods and services, and one on jobs related to using environmentally friendly production processes and practices.

The latter approach will be accomplished through a special employer survey. The proposed research is to assist BLS in developing and testing this survey. This project includes developing survey forms and information collection protocols to provide information on environmentally friendly production processes implemented by businesses across all industries; collecting information on the presence of those activities; and collecting the number, occupation, and wages paid to employees of the establishment performing those activities. This research is necessary for BLS to develop, design, and test survey forms to produce objective and reliable information on these practices.

II. Current Action

Office of Management and Budget clearance is being sought for the “Forms Design and Pilot Testing for the BLS Green Practices and Processes Project.” It is the goal of BLS and its OES program to produce economic statistics on employment related to use of environmentally friendly processes across the U.S. economy. Using its business establishment register, the OES program intends to survey establishments about these activities and the associated employment. The survey will identify employers performing green activities, determine whether they have any employees performing tasks associated with these activities, gather information to classify those employees according to the Standard Occupational Classification (SOC) system, and collect wage rate information.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: New collection.

Agency: Bureau of Labor Statistics.

Title: Forms Design and Pilot Testing for the BLS Green Practices and Processes Project.

OMB Number: 1220-NEW.

Affected Public: Private sector businesses or other for-profits; not-for-profit institutions, small businesses or organizations; State and local governments.

Total Respondents: 2,200.

Frequency: One time.

Total Responses: 2,450.

Average Time per Response: 21 minutes.

Estimated Total Burden Hours:

Form | Total respondents | Frequency | Total responses | Average time per response (min) | Estimated total burden (hours)
Forms Panel testing | 1700 | One time | 1,700 | 20 | 567
Web Panel | 500 | One time | 500 | 20 | 167
Follow-up interviews |  | One time | 250 | 30 | 125
Totals | 2,200 |  | 2,450 |  | 858

The respondents contacted for the follow-up interviews are a subset of the respondents contacted during the forms panel testing. About 250 respondents will be contacted twice, once during the panel testing and a second time for the follow-up interview. This is reflected in the difference between the total number of respondents and the total number of responses.

Total Burden Cost (capital/startup): $0.

Total Burden Cost (operating/maintenance): $0.

Comments submitted in response to this notice will be summarized and/or included in the request for Office of Management and Budget approval of the information collection request; they also will become a matter of public record.

Signed at Washington, DC, this 24th day of June 2010.
Kimberley Hill,
Chief, Division of Management Systems, Bureau of Labor Statistics.

[FR Doc. 2010-15869 Filed 6-29-10; 8:45 am]

BILLING CODE 4510-24-P